DEPARTMENT OF HOMELAND SECURITY

Coast Guard

33 CFR Part 167

[Docket No. USCG-2009-0765]

Port Access Route Study: In the Approaches to Los Angeles-Long Beach and in the Santa Barbara Channel

AGENCY: Coast Guard, DHS.

ACTION: Notice of public meetings; request for comments.

SUMMARY: The Coast Guard announces two separate public meetings to receive comments on the study entitled “Port Access Route Study: In the Approaches to Los Angeles-Long Beach and in the Santa Barbara Channel” that was published in the Federal Register on Wednesday, April 7, 2010. As stated in that document, the Coast Guard is conducting a Port Access Route Study (PARS) to evaluate the continued applicability of and the potential need for modifications to the current vessel routing in the approaches to Los Angeles-Long Beach and in the Santa Barbara Channel.

DATES: Public meetings will be held on Wednesday, October 13, 2010 from 7 p.m. to 9 p.m., and on Thursday, October 14, 2010 from 7 p.m. to 9 p.m. to provide an opportunity for oral comments. Written comments and related material may also be submitted to Coast Guard personnel specified at the meetings.

ADDRESSES: The October 13, 2010 public meeting will be held at Oxnard Harbor District Offices at 333 Ponoma Street in Port Hueneme, CA. Visitor parking is available in the adjacent parking lot. The October 14, 2010 public meeting will be held at the Port of Los Angeles Administration Building at 425 S. Palos Verdes St., San Pedro, CA 90731. Visitor parking is available in the Liberty Hill Plaza parking lot directly across the street from the Port of Los Angeles Administration Building. Government-issued photo identification will be required for entrance into both buildings.

FOR FURTHER INFORMATION CONTACT: If you have questions concerning the meeting or the study, please call or e-mail LTJG Lucas Mancini, Coast Guard; telephone 510-437-3801, e-mail Lucas.W.Mancini@uscg.mil. If you have questions on viewing the docket call Ms. Renee V. Wright, Program Manager, Docket Operations, telephone 202-366-9826.

SUPPLEMENTARY INFORMATION:

Background and Purpose

We published a notice of study in the Federal Register on April 7, 2010 (75 FR 17562), entitled “Port Access Route Study: In the Approaches to Los Angeles-Long Beach and In the Santa Barbara Channel” in which we did not state a plan to hold a public meeting. We received several requests for a meeting in comments submitted to the docket and have concluded that a public meeting would aid this study. Therefore, we are publishing this notice.

In the notice of PARS, we discussed increased vessel traffic observed bypassing the Santa Barbara Channel Traffic Separation Scheme (TSS) and opting for routes south of San Miguel, Santa Rosa, and Santa Cruz Islands approaching the San Pedro Channel. This study will assess whether the creation of a vessel routing system is necessary to increase the predictability of vessel movements, which may decrease the potential for collisions, oil spills, and other events that could threaten the marine environment.

You may view the notice of PARS in our online docket, in addition to comments submitted thus far by going to http://www.regulations.gov. Once there, insert “USCG-2009-0765” in the “Keyword” box and click “Search.” If you do not have access to the internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

We encourage you to participate in this study by submitting comments at the meeting either orally or in writing. If you bring written comments to the meeting, you may submit them to Coast Guard personnel specified at the meeting to receive written comments. These comments will be posted to our online public docket. All comments received will be posted without change to http://www.regulations.gov and will include any personal information you have provided.

Anyone can search the electronic form of comments received into any of our dockets by the name of the individual submitting the comment (or signing the comment, if submitted on behalf of an association, business, labor union, etc.). You may review a Privacy Act notice regarding our public dockets in the January 17, 2008, issue of the Federal Register (73 FR 3316).

Information on Service for Individuals With Disabilities

For information on facilities or services for individuals with disabilities or to request special assistance at the public meeting, contact LTJG Lucas Mancini at the telephone number or e-mail address indicated under the FOR FURTHER INFORMATION CONTACT section of this notice.

Public Meeting

The Coast Guard will hold public meetings regarding its Port Access Route Study In the Approaches to Los Angeles-Long Beach and In the Santa Barbara Channel proposed rule on Wednesday, October 13, 2010 from 7 p.m. to 9 p.m. at the Oxnard Harbor District Offices and Thursday, October 14, 2010 from 7 p.m. to 9 p.m. in the 2nd floor board room at the Port of Los Angeles Administration Building, telephone (310) SEA-PORT (732-7668). Government-issued photo identification (for example, a driver's license or TWIC) will be required for entrance into both buildings. We will provide a written summary of the meeting and additional comments received at the meeting in the docket.

Dated: September 2, 2010.
S.P. Metruck,
Captain, U.S. Coast Guard, Acting Commander, Eleventh Coast Guard District.

[FR Doc. 2010-22799 Filed 9-13-10; 8:45 am]

BILLING CODE 9110-04-P